DEPARTMENT OF ENERGY

Federal Energy Regulatory Commission

Combined Notice of Filings #1

Take notice that the Commission received the following electric rate filings:

Docket Numbers: ER10-1817-024.

Applicants: Southwestern Public Service Company.

Description: Supplement to June 30, 2021 Triennial Market Power Analysis for Southwest Power Pool, Inc. Region of Southwestern Public Service Company.

Filed Date: 10/20/21.

Accession Number: 20211020-5176.

Comment Date: 5 p.m. ET 11/10/21.

Docket Numbers: ER20-681-004.

Applicants: Tri-State Generation and Transmission Association, Inc.

Description: Compliance filing: Compliance Filing to be effective 4/1/2021.

Filed Date: 10/21/21.

Accession Number: 20211021-5041.

Comment Date: 5 p.m. ET 11/12/21.

Docket Numbers: ER21-2497-001.

Applicants: El Paso Electric Company.

Description: Tariff Amendment: Service Agreement No. 360, LGIA with Solar PV Development NM 29 II to be effective 9/22/2021.

Filed Date: 10/20/21.

Accession Number: 20211020-5150.

Comment Date: 5 p.m. ET 11/10/21.

Docket Numbers: ER21-2513-002.

Applicants: Golden Spread Electric Cooperative, Inc.

Description: Compliance filing: 2nd Amendment to Order No. 676-I Compliance and Waiver to be effective 12/31/9998.

Filed Date: 10/21/21.

Accession Number: 20211021-5022.

Comment Date: 5 p.m. ET 11/12/21.

Docket Numbers: ER21-2591-001.

Applicants: Arizona Public Service Company.

Description: Compliance filing: OATT Modifications—Pursuant to Order 676-I to be effective 12/31/9998.

Filed Date: 10/21/21.

Accession Number: 20211021-5099.

Comment Date: 5 p.m. ET 11/12/21.

Docket Numbers: ER22-158-000.

Applicants: Florida Power & Light Company.

Description: § 205(d) Rate Filing: FPL's Request for Effective Date Change to eTariff ID 341 to be effective 1/1/2020.

Filed Date: 10/20/21.

Accession Number: 20211020-5140.

Comment Date: 5 p.m. ET 11/10/21.

Docket Numbers: ER22-159-000.

Applicants: RE Gaskell West LLC.

Description: Tariff Amendment: Notice of Cancellation of Market-Based Rate Tariff to be effective 10/21/2021.

Filed Date: 10/20/21.

Accession Number: 20211020-5151.

Comment Date: 5 p.m. ET 11/10/21.

Docket Numbers: ER22-160-000.

Applicants: Macho Springs Solar, LLC.

Description: § 205(d) Rate Filing: Macho Springs MBR Tariff Amendment Filing to be effective 12/19/2021.

Filed Date: 10/20/21.

Accession Number: 20211020-5152.

Comment Date: 5 p.m. ET 11/10/21.

Docket Numbers: ER22-161-000.

Applicants: Kay Wind, LLC.

Description: § 205(d) Rate Filing: Kay Wind MBR Tariff Amendment Filing to be effective 12/19/2021.

Filed Date: 10/20/21.

Accession Number: 20211020-5153.

Comment Date: 5 p.m. ET 11/10/21.

Docket Numbers: ER22-162-000.

Applicants: Grant Wind, LLC.

Description: § 205(d) Rate Filing: Grant Wind MBR Tariff Amendment Filing to be effective 12/19/2021.

Filed Date: 10/20/21.

Accession Number: 20211020-5156.

Comment Date: 5 p.m. ET 11/10/21.

Docket Numbers: ER22-163-000.

Applicants: SG2 Imperial Valley LLC.

Description: § 205(d) Rate Filing: SG2 MBR Tariff Amendment Filing to be effective 12/19/2021.

Filed Date: 10/20/21.

Accession Number: 20211020-5158.

Comment Date: 5 p.m. ET 11/10/21.

Docket Numbers: ER22-164-000.

Applicants: Spectrum Nevada Solar, LLC.

Description: § 205(d) Rate Filing: Spectrum Nevada MBR Tariff Amendment Filing to be effective 12/19/2021.

Filed Date: 10/20/21.

Accession Number: 20211020-5162.

Comment Date: 5 p.m. ET 11/10/21.

Docket Numbers: ER22-165-000.

Applicants: Parrey, LLC.

Description: § 205(d) Rate Filing: Parrey MBR Tariff Amendment Filing to be effective 12/19/2021.

Filed Date: 10/20/21.

Accession Number: 20211020-5163.

Comment Date: 5 p.m. ET 11/10/21.

Docket Numbers: ER22-166-000.

Applicants: Southern California Edison Company.

Description: § 205(d) Rate Filing: Transmission Formula Rate Revisions to be effective 1/1/2022.

Filed Date: 10/21/21.

Accession Number: 20211021-5042.

Comment Date: 5 p.m. ET 11/12/21.

Docket Numbers: ER22-167-000.

Applicants: Ontario Power Generation Energy Trading, Inc.

Description: § 205(d) Rate Filing: Market Based Rate Tariff Revision to be effective 10/22/2021.

Filed Date: 10/21/21.

Accession Number: 20211021-5048.

Comment Date: 5 p.m. ET 11/12/21.

Docket Numbers: ER22-168-000.

Applicants: Cayuga Operating Company LLC.

Description: Tariff Amendment: Notice of Cancellation to be effective 10/22/2021.

Filed Date: 10/21/21.

Accession Number: 20211021-5058.

Comment Date: 5 p.m. ET 11/12/21.

Docket Numbers: ER22-169-000.

Applicants: Somerset Operating Company, LLC.

Description: Tariff Amendment: Notice of Cancellation to be effective 10/22/2021.

Filed Date: 10/21/21.

Accession Number: 20211021-5060.

Comment Date: 5 p.m. ET 11/12/21.

Docket Numbers: ER22-170-000.

Applicants: Midcontinent Independent System Operator, Inc.

Description: § 205(d) Rate Filing: 2021-10-21_SA 3194 Wolf Run Solar-Ameren Illinois 1st Rev GIA (J641) to be effective 10/6/2021.

Filed Date: 10/21/21.

Accession Number: 20211021-5067.

Comment Date: 5 p.m. ET 11/12/21.

Docket Numbers: ER22-171-000.

Applicants: NaturEner Montana Wind Energy, LLC.

Description: Tariff Amendment: Cancellation tariff id to be effective 10/22/2021.

Filed Date: 10/21/21.

Accession Number: 20211021-5075.

Comment Date: 5 p.m. ET 11/12/21.

Docket Numbers: ER22-172-000.

Applicants: PJM Interconnection, L.L.C.

Description: § 205(d) Rate Filing: Revisions to OATT, section 7.3 re: Uniform Cure Code to be effective 12/21/2021.

Filed Date: 10/21/21.

Accession Number: 20211021-5077.

Comment Date: 5 p.m. ET 11/12/21.

Docket Numbers: ER22-173-000.

Applicants: Puget Sound Energy, Inc.

Description: § 205(d) Rate Filing: Interconnection and Facilities Agreement by and between PSE and the Navy to be effective 12/21/2021.

Filed Date: 10/21/21.

Accession Number: 20211021-5080.

Comment Date: 5 p.m. ET 11/12/21.

Docket Numbers: ER22-175-000.

Applicants: Fairbanks Solar Energy Center LLC.

Description: § 205(d) Rate Filing: Revised Market-Based Rate Tariff Filing to be effective 12/21/2021.

Filed Date: 10/21/21.

Accession Number: 20211021-5115.

Comment Date: 5 p.m. ET 11/12/21.

Docket Numbers: ER22-176-000.

Applicants: Fairbanks Solar Holdings LLC.

Description: § 205(d) Rate Filing: Revised Market-Based Rate Tariff Filing to be effective 12/21/2021.

Filed Date: 10/21/21.

Accession Number: 20211021-5116.

Comment Date: 5 p.m. ET 11/12/21.

Docket Numbers: ER22-177-000.

Applicants: PJM Interconnection, L.L.C.

Description: § 205(d) Rate Filing: Interim ISA, Service Agreement No. 6211; Queue No. AE1-155 to be effective 9/29/2021.

Filed Date: 10/21/21.

Accession Number: 20211021-5127.

Comment Date: 5 p.m. ET 11/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2021.
Debbie-Anne A. Reese,
Deputy Secretary.

[FR Doc. 2021-23420 Filed 10-26-21; 8:45 am]

BILLING CODE 6717-01-P